DEPARTMENT OF THE TREASURY

Agency Information Collection Activities; Submission for OMB Review; Comment Request; Collection of Data From Property and Casualty Insurers for Reports Concerning the Terrorism Risk Insurance Program

AGENCY: Departmental Offices, U.S. Department of the Treasury.

ACTION: Notice.

SUMMARY: The Department of the Treasury will submit the following information collection request to the Office of Management and Budget (OMB) for review and clearance in accordance with the Paperwork Reduction Act of 1995, on or after the date of publication of this notice. The public is invited to submit comments on the collection listed below.

DATES: Comments should be received on or before April 12, 2017 to be assured of consideration.

ADDRESSES: Send comments regarding the burden estimate, or any other aspect of the information collection, including suggestions for reducing the burden, to (1) Office of Information and Regulatory Affairs, Office of Management and Budget, Attention: Desk Officer for Treasury, New Executive Office Building, Room 10235, Washington, DC 20503, or email at OIRA_Submission@OMB.EOP.gov and (2) Treasury PRA Clearance Officer, 1750 Pennsylvania Ave. NW., Suite 8142, Washington, DC 20220, or email at PRA@treasury.gov.

FOR FURTHER INFORMATION CONTACT: Copies of the submissions may be obtained by emailing PRA@treasury.gov, calling (202) 622-0489, or viewing the entire information collection request at www.reginfo.gov.

SUPPLEMENTARY INFORMATION:

Departmental Offices (DO)

Title: Collection of Data from Property and Casualty Insurers for Reports Concerning the Terrorism Risk Insurance Program.

OMB Control Number: 1505-XXXX.

Type of Review: New Collection Request.

Abstract: The Terrorism Risk Insurance Act of 2002 (TRIA) created the Terrorism Risk Insurance Program (Program) to address disruptions in the market for terrorism risk insurance, to help ensure the continued availability and affordability of commercial property and casualty insurance for terrorism risk, and to allow for the private markets to stabilize and build insurance capacity to absorb any future losses for terrorism events. The Program has been reauthorized on a number of occasions, most recently in the Terrorism Risk Insurance Program Reauthorization Act of 2015. TRIA requires the Secretary of the Treasury (Secretary) to perform periodic analyses of certain matters concerning the Program. In order to assist the Secretary with this process, TRIA requires insurers to submit on an annual basis certain insurance data and information regarding participation in the Program. Treasury requests stakeholder feedback on the data collection forms proposed for use in the 2017 data collection process, pursuant to 31 CFR 50.51(c). Copies of these forms and associated explanatory materials are available for electronic review at https://www.treasury.gov/resource-center/fin-mkts/Pages/program.aspx. Treasury also seeks comments from interested parties on issues that Treasury will be analyzing in connection with its next report concerning the Program, which will address the participation of small insurers in the Program, including any competitive challenges such insurers face in the terrorism risk insurance marketplace.

Form: Insurer (Non-Small) Groups or Companies (Form No. TBD), Small Insurers Insurer Group Affiliations (Form No. TBD), Alien Surplus Lines Exposure Bases by Jurisdiction (Form No. TBD), Captive Insurers Reinsurance (Nationwide) (Form No. TBD).

Affected Public: Businesses or other for-profits.

Estimated Total Annual Burden Hours: 38,750.

Authority: 44 U.S.C. 3501 et seq.

Dated: March 7, 2017.
Spencer W. Clark,
Treasury PRA Clearance Officer.

[FR Doc. 2017-04820 Filed 3-10-17; 8:45 am]

BILLING CODE 4810-25-P